DEPARTMENT OF AGRICULTURE

Commodity Credit Corporation

Information Collection: Brokerage Agreement for the Transportation of USDA Commodities

AGENCY: Commodity Credit Corporation, USDA.

ACTION: Notice; request for comments.

SUMMARY: In accordance with the Paperwork Reduction Act of 1995, the Commodity Credit Corporation (CCC) is seeking comments from all interested individuals and organizations on the extension of an approved information collection with revision. This information collection is used to support of brokerage services needed to meet domestic and export food assistance program needs.

This information collection will allow CCC to determine the availability of brokers to meet CCC's transportation needs. The agreement in this information collection is an addition to the Standard Rules Tender (SRT) Governing Motor Carrier Transportation, and/or Standard Operating Agreement (SOA) Governing Intermodal Transportation that CCC approved.

DATES: Comments on this notice must be received on or before December 2, 2005, to be assured consideration.

ADDRESSES: Comments concerning this notice must be sent to Kansas City Commodity Office, USDA, Attn: Khristy Baughman, Chief, Planning and Analysis Division, 6501 Beacon Drive, Kansas City, Missouri 64133-4676 and to the Desk Officer for Agriculture, Office of Information and Regulatory Affairs, Office of Management and Budget, Washington, DC 20503. Comments may be also submitted via fax to (816) 926-1648 or by e-mail to Khristy.baughman@kcc.usda.gov.

FOR FURTHER INFORMATION CONTACT: Khristy Baughman, Chief, Planning and Analysis Division, Kansas City Commodity Office, (816) 926-6509.

SUPPLEMENTARY INFORMATION: Title: Brokerage Agreement for the Transportation of USDA Commodities.

OMB Control Number: 0560-0224.

Type of Request: Extension with revision.

Abstract: CCC, through the Kansas City Commodity Office (KCCO), solicits bids from brokers for the purpose of providing transportation brokerage services of agricultural commodities. Only approved Intermodal Marketing Companies (IMC) will be authorized to provide rail trailer-on-flatcar/container-on-flatcar (TOFC/COFC) service that CCC hires to provide program transportation needs. Only approved Motor Carriers will be authorized to provide over the road trucking service that CCC hires to meet domestic and export program needs. Intermodal Marketing Companies and Motor Carriers that choose to broker loads with the KCCO Export Operations Division (EOD) are required to complete and submit the KC-11 (Brokerage Agreement for the Transportation of USDA Commodities). Completion of the form is only required one time. EOD is collecting information to determine the brokers that are available to meet CCC requirements for hauling agricultural products for CCC.

Respondents: Brokers.

Respondents: 47.

Estimated Number of Annual Responses per Respondent: 1.

Estimated Total Annual Burden on Respondents: 47 hours.

Comments are invited regarding: (a) Whether the collection of information is necessary for the proper performance of the functions of the agency, including whether the information will have practical utility; (b) the accuracy of the agency's estimate of burden including the validity of the methodology and assumptions used; (c) ways to enhance the quality, utility and clarity of the information collected; or (d) ways to minimize the burden of the collection of the information on those who are to respond, including through the use of appropriate automated, electronic, mechanical, or other technological collection techniques or other forms of information technology.

All comments received in response to this notice, including names and addresses when provided, will be a matter of public record. Comments will be summarized and included in the submission for Office of Management and Budget approval.

Signed at Washington, DC, on September 24, 2005.
James R. Little,
Executive Vice President, Commodity Credit Corporation.

[FR Doc. 05-19670 Filed 9-30-05; 8:45 am]

BILLING CODE 3410-05-P